FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than September 18, 2023.

A. Federal Reserve Bank of St. Louis (Holly A. Rieser, Senior Manager) P.O. Box 442, St. Louis, Missouri 63166-2034. Comments can also be sent electronically to Comments.applications@stls.frb.org:

1. Brewer Family Trust; James F. Gramling, individually and as special trustee of the Brewer Family Trust; the William E. Brewer Irrevocable Trust; the William E. Brewer, III Irrevocable Trust; the Elizabeth Shaw Brewer Irrevocable Trust; William E. Brewer, individually and as trustee of the William E. Brewer Irrevocable Trust, the William E. Brewer, III Irrevocable Trust and the Elizabeth Shaw Brewer Irrevocable Trust; the Shawill Irrevocable Trust; William E. Brewer, III, individually and as trustee of the Shawill Irrevocable Trust; Diane Elizabeth Brewer; Meredith Brewer; Elizabeth Shaw Brewer; Neeley Camp; and Britt Camp, all of Paragould, Arkansas; to retain the voting shares of First Paragould Bankshares, Inc., and thereby retain the voting shares of First National Bank, both of Paragould, Arkansas.

Board of Governors of the Federal Reserve System.
Michele Taylor Fennell,
Deputy Associate Secretary of the Board.

[FR Doc. 2023-18986 Filed 8-31-23; 8:45 am]

BILLING CODE P